ENVIRONMENTAL PROTECTION AGENCY

[EPA-HQ-OPP-2008-0195; FRL-8393-7]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of request by registrants to voluntarily cancel certain pesticide registrations.

DATES: Unless a request is withdrawn by June 8, 2009 or January 9, 2009 for registrations for which the registrant requested a waiver of the 180-day comment period, orders will be issued canceling these registrations. The Agency will consider withdrawal requests postmarked no later than June 8, 2009 or January 9, 2009, whichever is applicable. Comments must be received on or before June 8, 2009 or January 9, 2009, for those registrations where the 180-day comment period has been waived.

ADDRESSES: Submit your comments and your withdrawal request, identified by docket identification (ID) number EPA-HQ-OPP-2008-0195, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001. Written Withdrawal Request, Attention : John Jamula, Information Technology and Resources Management Division (7502P).

• Delivery: OPP Regulatory Public Docket (7502P), Environmental Protection Agency, Rm. S-4400, One Potomac Yard (South Bldg.), 2777 S. Crystal Dr., Arlington, VA. Deliveries are only accepted during the Docket's normal hours of operation (8:30 a.m. to 4 p.m., Monday through Friday, excluding legal holidays). Special arrangements should be made for deliveries of boxed information. The Docket Facility telephone number is (703) 305-5805.

Instructions: Direct your comments to docket ID number EPA-HQ-OPP-2008-0195. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: John Jamula, Information Technology and Resources Management Division, Office of Pesticide Programs, Environmental Protection Agency, 1200 Pennsylvania Ave., NW., Washington, DC 20460-0001; telephone number: (703) 305-6426; e-mail address: jamula.john@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What Action is the Agency Taking?

This notice announces receipt by the Agency of applications from registrants to cancel 171 pesticide products registered under section 3 or 24(c) of FIFRA. These registrations are listed in sequence by registration number (or company number and 24(c) number) in Table 1 of this unit:

Table 1.—Registrations With Pending Requests for Cancellation
Registration no. | Product Name | Chemical Name
000004-00342 | Bonide Lawn Fungicide with Bayleton 1% | Triadimefon
000004-00362 | Bonide Disease Beater Lawn Fungicide with Bayleton Fung | Triadimefon
000100-00975 | TD Herbicide | Benzoic acid, 3,6-dichloro-2-methoxy-, compd with 2-(2-aminoethoxy)ethanol (1:1)
|  | Triasulfuron
000100-01018 | Cypermethrin Concentrate | Cypermethrin
000100-01186 | Touchdown 008 | Dicamba
|  | Glycine, N-(phosphonomethyl)- potassium salt
000100 ID-99-0023 | Dual Magnum Herbicide | S-Metolachlor
000100 OR-03-0004 | Discover Herbicide | Clodinafop-propargyl (CAS Reg. No.105512-06-9)
000228-00103 | Riverdale Dairy Spray contains Vapona Insecticide | Dichlorvos
000228-00389 | Riverdale MMMCCCXXXVI WP | Thiophanate-methyl
000239-02343 | Ortho Chickweed & Clover Control | Mecoprop, dimethylamine salt
000239-02499 | Weed-B-Gon Weed Killer | 2,4-D, dimethylamine salt
|  | Mecoprop, dimethylamine salt
000241-00359 | Resolve SG Herbicide | Dicamba, sodium salt
|  | Imazethapyr
000241 OR-00-0030 | Prowl 3.3 EC Herbicide | Pendimethalin
000264-00417 | Temik 15G Aldicarb Pesticide for Use on Citrus Only | Aldicarb
000264-00426 | Temik Brand 15g Aldicarb Pesticide for Sale and Use In | Aldicarb
000264-00523 | Temik Brand 15g Nw Aldicarb Pesticide for Use on Potato | Aldicarb
000264-00622 | Dropp 50WP Cotton Defoliant | Thidiazuron
000264-01045 | Propick 50WP | Thidiazuron
000264 AL-93-0002 | Temik Brand 15g Aldicarb Pesticide | Aldicarb
000264 AR-81-0011 | Temik(r) Aldicarb Pesticide 15% Granular | Aldicarb
000264 CA-02-0003 | Temik Brand 15G Aldicarb Pesticide | Aldicarb
000264 FL-78-0023 | Temik(r) Aldicarb Pesticide 15% Granular | Aldicarb
000264 FL-80-0008 | Temik(r) Aldicarb Pesticide 15% Granular | Aldicarb
000264 FL-88-0003 | Temik 15 G Aldicarb Pesticide | Aldicarb
000264 GA-80-0019 | Temik(r) Aldicarb Pesticide 15% Granular | Aldicarb
000264 ID-80-0037 | Temik(r) Aldicarb Pesticide 15% Granular | Aldicarb
000264 MO-81-0011 | Temik(r) Aldicarb Pesticide 15% Granular | Aldicarb
000264 MS-82-0006 | Temik 15 G Aldicarb Pesticide | Aldicarb
000264 NC-79-0021 | Temik 15% Granular Aldicarb Pesticide | Aldicarb
000264 NC-81-0033 | Temik(r) Aldicarb Pesticide 15% Granular | Aldicarb
000264 OR-07-0007 | Mocap EC Nematicide - Insecticide | Ethoprop
000264 OR-98-0016 | Axiom DF Herbicide | Flufenacet
000264 PR-87-0001 | Temik Aldicarb Pesticide | Aldicarb
000264 SC-79-0011 | Temik(r) Aldicarb Pesticide 15% Granular | Aldicarb
000264 VA-79-0016 | Temik 15 G Aldicarb Pesticide | Aldicarb
000264 VA-80-0032 | Temik(r) Aldicarb Pesticide 15% Granular | Aldicarb
000264 WA-81-0033 | Temik(r) Aldicarb Pesticide 15% Granular | Aldicarb
000264 WA-97-0032 | Gustafson 42-S Thiram Fungicide | Thiram
000264 WA-97-0036 | Gustafson 42-S Thiram Fungicide | Thiram
000279-02874 | Furadan 5G Insecticide - Nematicide | Carbofuran
000279-02922 | Furadan 5% Granules Insecticide - Nematicide | Carbofuran
000279-03082 | Prevail FG Termiticide | Cypermethrin
000279-03085 | Cynoff WSB Insecticide In Water Soluble Bags | Cypermethrin
000279-03109 | Cynoff 50 WP Insecticide. | Cypermethrin
000279-03117 | Cynoff 50 WSB Insecticide | Cypermethrin
000279-03118 | Prevail 4 EW Termiticide | Cypermethrin
000279-03120 | Cynoff 2.5 EW Insecticide | Cypermethrin
000279-03131 | Prevail TC Termiticide | Cypermethrin
000279-03209 | Prevail PTC Termiticide | Cypermethrin
000279-03275 | Cype Technical Insecticide | Cypermethrin
000279-03292 | Cyper Technical Insecticide | Cypermethrin
000279 MS-90-0022 | Prevail FT Termiticide | Cypermethrin
000279 PR-85-0001 | Furadan 10 G Insecticide/nematicide | Carbofuran
000279 PR-96-0003 | Furadan 10 G Insecticide/nematicide | Carbofuran
000432-00758 | Cypermethrin 40 WP | Cypermethrin
000432-00938 | Prograss Flowable Herbicide | Ethofumesate
000432-01300 | Bayleton 216 Concentrate | Triadimefon
000538-00181 | St. Augustinegrass Growth Regulator with Fertilizer | Acetamide, N-(2,4-dimethyl-5-(((trifluoromethyl)sulfonyl)amino)phenyl)-, compd.with 2,2'imi
000829-00251 | Sa-50 Brand Cygon 2e Dimethoate Systemic Insecticide | Dimethoate
000869-00222 | Green Light Fung-Away Systemic Fungicide | Triadimefon
000869-00224 | Green Light Fung-Away Systemic Lawn Fungicide | Triadimefon
000961-00353 | Lebanon Bayleton | Triadimefon
000961-00354 | Lebanon Bayleton 1.0% G | Triadimefon
000961-00388 | Woodace Hs Briqueetes with 0.1% Bayleton. | Triadimefon
000961-00389 | Woodace Ls Briquettes with 0.05% Bayleton. | Triadimefon
001769-00122 | Chemweed 265 | MCPP-P-potassium
001839-00121 | 10% BTC 776/tin Industrial Water Cooling Tower Microbio | Alkyl* dimethyl benzyl ammonium chloride *(60%C14, 30%C16, 5%C18,5%C12)
|  | Dialkyl* methyl benzyl ammonium chloride *(60% C14, 30% C16, 5% C18, 5%C12)
|  | Tributyltin oxide
001839-00122 | 10% Btc 2125m/tin Industrial And/or Commercial Recircul | Alkyl* dimethyl benzyl ammonium chloride *(60%C14, 30%C16, 5%C18,5%C12)
|  | Alkyl* dimethyl ethylbenzyl ammonium chloride *(68%C12, 32%C14)
|  | Tributyltin oxide
002217-00291 | Vapona 25e | Dichlorvos
002217-00463 | Vapona Insecticide 15-E | Dichlorvos
002724-00691 | Intercept H & G Rose, Ornamental & Lawn Systemic Diseas | Triadimefon
002724-00696 | Crossfire Multi-Purpose Insecticide Pressurized Spray | d-trans-Chrysanthemum monocarboxylic ester of dl-2-allyl-4-hydroxy-3-methyl-2-cyclopenten-1-
|  | Piperonyl butoxide
|  | Cypermethrin
002935 HI-90-0008 | Volck Supreme Spray | Aliphatic petroleum solvent
002935 OR-06-0013 | Diazinon 14G | Diazinon
002935 WA-80-0073 | Red Top Superior Spray Oil N.w. | Mineral oil - includes paraffin oil from 063503
004787-00048 | Declare | Methyl parathion
004822-00389 | Raid Ant & Roach Killer II | Pyrethrins
|  | Tetramethrin
|  | Cypermethrin
004822-00436 | Raid Ant and Roach Killer 13 | Tetramethrin
|  | Cypermethrin
005011-00049 | Formula GH-19 | Dichlorvos
005481 OR-96-0027 | Avenge Wild Oat Herbicide | Difenzoquat methyl sulfate
005887-00046 | Grass Weed & Vegetation Killer | Sodium chlorate
005905-00493 | Dimethoate 4 E.C. | Dimethoate
005905-00553 | HM-2025 | 2-4,D
|  | Carfentrazone-ethyl
005905 CA-04-0003 | Omni Supreme Spray | Aliphatic petroleum solvent
007401-00097 | Ferti-Lome Systemic Evergreen Spray | Dimethoate
007401-00106 | Ferti-Lome Spider Mite Spray | Dimethoate
007401-00181 | Ferti-Lome New Biological Worm Spray | Bacillus thuringiensis subsp. kurstaki
007401-00253 | Ferti-Lome Dipel Biological Worm Spray | Bacillus thuringiensis subsp. kurstaki
007401-00338 | Hi-Yield Cygon Systemic Insect Spray | Dimethoate
007401-00345 | Hi-Yield Biological Worm Spray | Bacillus thuringiensis subsp. kurstaki
007401-00360 | Hi-Yield Biological Worm Spray | Bacillus thuringiensis subsp. kurstaki
007969-00082 | BAS 530 04 Herbicide | 3-Isopropyl-1H-2,1,3-benzothiadiazin-4(3H)-one-2,2-dioxide, sodium salt
|  | Sodium salt of fomesafen
007969-00083 | Faster Herbicide | 3-Isopropyl-1H-2,1,3-benzothiadiazin-4(3H)-one-2,2-dioxide, sodium salt
|  | Sodium salt of fomesafen
007969-00166 | Celebrity Herbicide | Dicamba, sodium salt
|  | Nicosulfuron
008536-00040 | Card-O-Vap 5 | Dichlorvos
009444-00182 | Air-Devil Residual with Cypermethrin | Cypermethrin
010163-00188 | Botran 6% Dust | Dicloran
010163-00191 | Botran 15% Dust Fungicide | Dicloran
010163-00239 | Botran 65 Manufacturing Use Product | Dicloran
010163 CA-94-0007 | Botran 75 W-Fungicide | Dicloran
010163 ID-94-0006 | Botran 75 W | Dicloran
010163 ID-97-0002 | Botran 5F | Dicloran
010163 WA-94-0009 | Botran 75 W | Dicloran
010163 WA-94-0010 | Prefar 4-E Herbicide | Bensulide
010707-00032 | Magnacide B-6603 | Sodium chlorite
|  | Sodium chlorate
010807-00004 | Misty Anti-Crawl Residual Insecticide | Propoxur
|  | MGK 264
|  | Piperonyl butoxide
|  | Pyrethrins
010807-00048 | Misty Wasp & Hornet Killer | Propoxur
|  | MGK 264
|  | Piperonyl butoxide
|  | Pyrethrins
010807-00085 | Misty Ant, Roach, & Spider Residual Insecticide | Propoxur
|  | MGK 264
|  | Piperonyl butoxide
|  | Pyrethrins
010951-00007 | Britz Cotton Defoliant Concentrate | Sodium chlorate
010951-00013 | Britz Botran 6 Dust | Dicloran
010951-00014 | Britz Botran Sulfur 6-25 Dust | Dicloran
|  | Sulfur
019713-00046 | Drexel Simazine Herbicide 80w | Simazine
019713-00081 | Drexel Kop 300 | Basic copper sulfate
019713-00202 | Chapman Weed Free BCB-4p | Bromacil
|  | Sodium chlorate
019713-00271 | Drexel Simazine 80wp | Simazine
019713-00353 | Ddvp 90% Concentrate | Dichlorvos
019713-00546 | Simazine 4g | Simazine
019713-00583 | Drexel Glyphosate Technical 97.4% | Glyphosate
019713 LA-00-0014 | Kop-Hydroxide 50 | Copper hydroxide
019713 MS-00-0012 | Kop-Hydroxide 50 | Copper hydroxide
033658-00022 | Gharda Napropamide Technical | Napropamide
045309-00043 | Swimfree Charge | Sodium bromide
047000-00002 | CT Total Release Fogger | d-trans-Chrysanthemum monocarboxylic ester of dl-2-allyl-4-hydroxy-3-methyl-2-cyclopenten-1-
|  | Phenothrin
|  | Dichlorvos
047000-00043 | Economy Fly Bait 1% Vapona Insecticide | Dichlorvos
047000-00054 | Dairy Cattle Spray | 2,5-Pyridinedicarboxylic acid, dipropyl ester
|  | MGK 264
|  | Piperonyl butoxide
|  | Pyrethrins
|  | Dichlorvos
047000-00130 | Robert's “vapora” 18.5% Vapona Concentrate | Dichlorvos
047000-00131 | Hopkins Vapora Home and Farm Bomb | Piperonyl butoxide
|  | Pyrethrins
|  | Dichlorvos
047629-00010 | Bromethalin Manufacturing Concentrate | Bromethalin
051036-00296 | Dicamba Acid Technical | Dicamba
051036-00297 | Dicamba DMA Salt Mup | Benzoic acid, 3,6-dichloro-2-methoxy-, compd with N-methylmethanamine (1:1)
051036-00298 | Dicamba Potassium Mup | Benzoic acid, 3,6-dichloro-2-methoxy-, potassium salt
051036-00302 | Dicamba Sodium Technical | Dicamba, sodium salt
051036 PA-06-0001 | Dimethoate 4E | Dimethoate
053883-00094 | Cyper Horse Spray | Butoxypolypropylene glycol
|  | Piperonyl butoxide
|  | Pyrethrins
|  | Cypermethrin
053883-00097 | Prometon 5PS | Boric acid (HBO2), sodium salt
|  | Sodium chlorate
|  | Prometon
|  | Simazine
059639-00053 | Valent Metaldehyde 4% Bait (pelleted) | Metaldehyde
061483-00079 | Elastrel Insecticide | Dichlorvos
062719-00397 | Kerb 50W Herbicide In Wsp | Propyzamide
062719-00510 | Bastion* T | MCPP-P-potassium
|  | Fluroxypyr 1-methylheptyl ester
062719-00526 | GF-1248 | Glyphosate-isopropylammonium
|  | 2-(4,5-Dihydro-4-methyl-4-(1-methylethyl)-5-oxo-1H-imidazol-2-yl)-3-pyridinecarboxyli c acid
062719-00578 | Kerb 3.3 Sc | Propyzamide
064014-00012 | Tree Tech Dicamba | Dicamba
066222 ID-03-0003 | Thionex 3 EC | Endosulfan
066300 PR-87-0002 | Temik Brand 15g Aldicarb Pesticide | Aldicarb
066300 PR-96-0001 | Temik Brand 15g Aldicarb Pesticide | Aldicarb
066330-00323 | Thidiazuron 50W | Thidiazuron
067760 OR-00-0016 | Fyfanon ULV | Malathion
069678-00001 | Streptomycin Sulfate Technical | Streptomycin sulfate
069874-00002 | Sodium Chlorate - High Strength Solution AG | Sodium chlorate
069874-00003 | Sodium Chlorate Crystal AG | Sodium chlorate
070506-00088 | Phen | Phenmedipham
070506-00089 | DS-Phen | Phenmedipham
|  | Desmedipham
070506-00090 | Des-Phen-Etho | Phenmedipham
|  | Desmedipham
|  | Ethofumesate
071096-00015 | Bonide Snail, Slug & Sowbug Bait | Metaldehyde
|  | Carbaryl
072642-00001 | Elector Insect Control Agent | Spinosad (Naturally occurring mixture of spinosyn A, pc code 110003 , CAS Reg.No. 131929-6
073049-00051 | Bactimos Pellets | Bacillus thuringiensis subsp. israelensis
073049-00052 | Bactimos Granules | Bacillus thuringiensis subsp. israelensis
073782-00002 | Demosan 65w | Chloroneb
074655-00001 | Betz Slime-Trol Rx 28 | Dazomet
079427-00002 | Wellcare Adm Fiber | Boric oxide
079427-00003 | Wellcare Adm (finished Articles) | Boric oxide
083223-00001 | Napropamide 80 MUP | Napropamide
083223-00002 | Regatta 80wp Agricultural Herbicide | Napropamide
083223-00003 | Regatta 80wp Ornamental Herbicide | Napropamide
083223-00004 | Regatta 75wg Agricultural Herbicide | Napropamide
083223-00005 | Regatta 75wg Ornamental Herbicide | Napropamide
083223-00006 | Regatta 2g Ornamental Herbicide | Napropamide
083223-00007 | Regatta Ornamental Herbicide | Napropamide
083223-00008 | Regatta 10G Herbicide | Napropamide
083893-00015 | Greenleaf Weed & Feed | Dicamba
|  | 2-4,D
|  | Mecoprop-P
083893-00016 | Greenleaf Weed & Feed II | 2,4-D, dimethylamine salt
|  | Propanoic acid, 2-(2,4-dichlorophenoxy)-, (R)-, compd. with N-methylmethanamine (1:1)
|  | Propanoic acid, 2-(4-chloro-2-methylphenoxy)-, (R)-, compd. with N-methylmethanamine (1:1)

A request to waive the 180-day comment period has been received for the following registrations: 000228-00389; 000279-02874; 000279-02922; 000279-03085; 001839-00121; 001839-00122; 007401-00181; 007401-00253; 007401-00345; 007401-00360; 019713-00583; 062719-00397; 062719-00510; 062719-00526; 062719-00578; 070506-00088; 070506-00089; 070506-00090; 072642-0001; 019713 LA-00-0014; 019713 MS-00-0012; 000279 PR-85-0001; and 000279 PR-96-0003.

Unless a request is withdrawn by the registrant within 180 days of publication of this notice, orders will be issued canceling all of these registrations. Users of these pesticides or anyone else desiring the retention of a registration should contact the applicable registrant directly during this 180-day period.

Table 2 of this unit includes the names and addresses of record for all registrants of the products in Table 1 of this unit, in sequence by EPA company number:

Table 2.—Registrants Requesting Voluntary Cancellation
EPA Company no. | Company Name and Address
000004 | Bonide Products, Inc., 6301 Sutliff Rd., Oriskany, NY 13424.
000100 | Syngenta Crop Protection, Inc., Attn: Regulatory Affairs, PO Box 18300, Greensboro, NC 27419-8300.
000228 | Nufarm Americas Inc., 150 Harvester Drive, Suite 200, Burr Ridge, IL 60527.
000239 | The Scotts Co., d/b/a The Ortho Group, Po Box 190, Marysville, OH 43040.
000241 | BASF Corp., PO Box 13528, Research Triangle Park, NC 27709-3528.
000264 | Bayer Cropscience LP, 2 T.W. Alexander Drive, Research Triangle Park, NC 27709.
000279 | FMC Corp. Agricultural Products Group, 1735 Market St, Philadelphia, PA 19103.
000432 | Bayer Environmental Science, A Business Group of Bayer Cropscience LP, PO Box 12014, Research Triangle Park, NC 27709.
000538 | Scotts Co., The, 14111 Scottslawn Rd, Marysville, OH 43041.
000829 | Southern Agricultural Insecticides, Inc., PO Box 218, Palmetto, FL 34220.
000869 | Valent Gl Corp., c/o Valent USA Corp., Agent For: Green Light Co., 1600 Riviera Ave. Suite 200, Walnut Creek, CA 94596.
000961 | Product & Regulatory Associates, LLC, Agent For: Lebanon Seaboard Corp., PO Box 351, Vorhees, NJ 08043.
001769 | NCH Corp., 2727 Chemsearch Blvd., Irving, TX 75062.
001839 | Stepan Co., 22 W. Frontage Rd., Northfield, IL 60093.
002217 | PBI/Gordon Corp., PO Box 014090, Kansas City, MO 64101-0090.
002724 | Wellmark International, 1501 E. Woodfield Rd., Suite 200 W., Schaumburg, IL 60173.
002935 | Wilbur Ellis Co., PO Box 1286, Fresno, CA 93715.
004787 | Cheminova Inc., Agent For: Cheminova A/S, PO Box 110566, RTP, NC 27709.
004822 | S.C. Johnson & Son Inc., 1525 Howe Street, Racine, WI 53403.
005011 | Aire-Mate Inc., PO Box 406, Westfield, IN 46074.
005481 | Amvac Chemical Corp., d/b/a Amvac, 4695 Macarthur Ct., Suite 1250, Newport Beach, CA 92660-1706.
005887 | Value Gardens Supply, LLC, d/b/a Value Garden Supply, Po Box 585, Saint Joseph, MO 64502.
005905 | Helena Chemical Co, 225 Schilling Blvd., Suite 300, Collierville, TN 38017.
007401 | Mandava Associates, Llc, Agent For: Voluntary Purchasing Groups, Inc., 6860 N.Dallas Pkwy., Suite 200, Plano, TX 75024.
007969 | BASF Corp., Agricultural Products, PO Box 13528, Research Triangle Park, NC 27709-3528.
008536 | Soil Chemicals Corp., d/b/a Cardinal Professional Products, PO Box 782,Hollister, CA 95024.
009444 | Waterbury Companies Inc., PO Box 640, Independence, LA 70443.
010163 | Gowan Co, PO Box 5569, Yuma, AZ 85366-5569.
010707 | Baker Petrolite Corp., 12645 W. Airport Blvd., Sugar Land, TX 77478.
010807 | Amrep, Inc., 990 Industrial Park Drive, Marietta, GA 30062.
010951 | Robinson Associates, Agent For: Britz Fertilizers Inc., 583 Canyon Rd, Redwood City, CA 94062.
019713 | Drexel Chemical Co., POo Box 13327, Memphis, TN 38113-0327.
033658 | IPM Resources LLC, Agent For: Gharda Chemicals Ltd., 660 Newtown-Yardley Rd, Ste 105, Newtown, PA 18940.
045309 | Aqua Clear Industries, LLC., PO Box 2456, Suwanee, GA 30024-0980.
047000 | Chem-Tech, Ltd., 4515 Fleur Dr. #303, Des Moines, IA 50321.
047629 | Woodstream Corp., PO Box 327, Lititz, PA 17543-0327.
051036 | BASF Sparks LLC, PO Box 13528, Research Triangle Park, NC 27709.
053883 | Control Solutions, Inc., 5903 Genoa-Red Bluff, Pasadena, TX 77507-1041.
059639 | Valent U.S.A. Corp., 1600 Riviera Ave. Suite 200, Walnut Creek, CA 94596.
061483 | KMG-Bernuth, Inc., 9555 W. Sam Houston Pkwy South, Suite 600, Houston, TX 77099.
062719 | Dow Agrosciences LLC, 9330 Zionsville Rd 308/2e, Indianapolis, IN 46268-1054.
064014 | Florida Silvics Inc., d/b/a Tree Tech Microinjection Systems, 950 S.E. 215th Ave., Morriston, FL 32668.
066222 | Makhteshim-Agan of North America Inc., 4515 Falls of Neuse Rd, Suite 300,Raleigh, NC 27609.
066300 | Aventis Cropscience USA LP, Agent For: Aventis Cropscience Puerto Rico, PO Box 12014, Research Triangle Park, NC 27709.
066330 | Arysta Lifescience North America, LLC, 15401 Weston Parkway, Suite 150, Cary, NC 27513.
067760 | Cheminova, Inc., 1600 Wilson Blvd., Suite 700, Arlington, VA 22209.
069678 | Danisco USA Inc., 4 New Century Parkway, New Century, KS 66031.
069874 | Delta Analytical Corp., Agent For: Canexus U.S., Inc., 12510 Prosperity Drive, Suite 160, Silver Spring, MD 20904.
070506 | United Phosphorus, Inc., 630 Freedom Business Center, Suite 402, King Of Prussia, PA 19406.
071096 | Regulatory Services, Inc., Agent For: Or-Cal Inc., 17220 Westview Rd., Oswego, OR 97034.
072642 | Elanco Animal Health, A Division of Eli Lilly & Co., PO Box 708, Greenfield, IN 46140.
073049 | Valent Biosciences Corp., 870 Technology Way, Suite 100, Libertyville, IL 60048-6316.
073782 | Kincaid Inc., PO Box 490, Athens, TN 37371.
074655 | Hercules Inc., Agent For: Hercules Inc., 7910 Baymeadows Way, Jacksonville, FL 32256.
079427 | Wellman, Inc., 1041 521 Corporate Center Drive, Ft. Mill, SC 29707.
083223 | Frank E. Sobotka, Phd, Agent For: Gharda High Performance Plastics, 660 Newton-Yardley Rd, Suite 106, Newtown, PA 18940.
083893 | Greenleaf LLC, Po Box 1700, Lowell, AR 72745.

III. What is the Agency's Authority for Taking this Action?

Section 6(f)(1) of FIFRA provides that a registrant of a pesticide product may at any time request that any of its pesticide registrations be canceled. FIFRA further provides that, before acting on the request, EPA must publish a notice of receipt of any such request in the Federal Register. Thereafter, the Administrator may approve such a request.

IV. Procedures for Withdrawal of Request

Registrants who choose to withdraw a request for cancellation must submit such withdrawal in writing to the person listed under FOR FURTHER INFORMATION CONTACT, postmarked before June 8, 2009. This written withdrawal of the request for cancellation will apply only to the applicable FIFRA section 6(f)(1) request listed in this notice. If the product(s) have been subject to a previous cancellation action, the effective date of cancellation and all other provisions of any earlier cancellation action are controlling. The withdrawal request must also include a commitment to pay any reregistration fees due, and to fulfill any applicable unsatisfied data requirements.

V. Provisions for Disposition of Existing Stocks

The effective date of cancellation will be the date of the cancellation order. The orders effecting these requested cancellations will generally permit a registrant to sell or distribute existing stocks for 1 year after the date the cancellation request was received. This policy is in accordance with the Agency's statement of policy as prescribed in the Federal Register of June 26, 1991 (56 FR 29362) (FRL-3846-4). Exceptions to this general rule will be made if a product poses a risk concern, or is in noncompliance with reregistration requirements, or is subject to a data call-in. In all cases, product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a special review action, or where the Agency has identified significant potential risk concerns associated with a particular chemical.

List of Subjects

Environmental protection, Pesticides and pests.

Dated: December 2, 2008.
Kathryn Bouvé
Acting Director, Information Technology and Resources Management Division, Office of Pesticide Programs.

[FR Doc. E8-29217 Filed 12-9-08; 8:45 am]

BILLING CODE 6560-50-S